COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and a service to be furnished by nonprofit agencies employing persons who are blind or have other severe disabilities.

DATES: Effective Date: March 29, 2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 12/28/2009 (74 FR 68587), the Committee for Purchase From People Who Are Blind or Severely Disabled published a notice of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products:

NSN: 9905-00-NIB-0141—Rack Cards, Double-Sided, DeCA Marketing POS Kit

NSN: 9905-00-NIB-0142—Banner, DeCA Marketing Signage Kit, 3' x 10', Each

NSN: 9905-00-NIB-0143—Buttons, DeCA Marketing Signage Kit, 3”, Each

NSN: 9905-00-NIB-0144—Dangler, Round, Double-Sided, DeCA POS Signage

NSN: 9905-00-NIB-0145—Poster, DeCA Marketing Signage Kit, 20” x 30”

NSN: 9905-00-NIB-0146—Kit, DeCA Marketing Signage, Point of Sale (POS)

NPA: Envision, Inc., Wichita, KS

Contracting Activity: Defense Commissary Agency (DECA), Fort Lee, VA Coverage: C-List for the requirements of the Defense Commissary Agency (DECA), Fort Lee, VA

Service:

Service Type/Location: Landscaping Services, Basewid, Fort Hood, TX.

NPA: Training, Rehabilitation, & Development Institute, Inc., San Antonio, TX

Contracting Activity: Dept of the Army, XR W6BB ACA Hood, Fort Hood, TX

Barry S. Lineback,
Director, Business Operations.

[FR Doc. 2010-3943 Filed 2-25-10; 8:45 am]

BILLING CODE 6353-01-P